DEPARTMENT OF HOUSING AND URBAN DEVELOPMENT

[Docket No. FR-4817-N-15]

Notice of Proposed Information Collection for Public Comment for the General Conditions for Construction, Public Housing Programs

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: November 17, 2003.

ADDRESSES: Interested persons are invited to submit comments regarding this proposal. Comments should refer to the proposal by name and/or OMB Control Number and should be sent to: Mildred M. Hamman, Reports Liaison Officer, Public and Indian Housing, Department of Housing & Urban Development, 451-7th Street, SW, Room 4249, Washington, DC 20410-5000.

FOR FURTHER INFORMATION CONTACT: Mildred M. Hamman, (202) 708-0614, extension 4128. (This is not a toll-free number). For hearing- and speech-impaired persons, this telephone number may be accessed via TTY (Text telephone) by calling the Federal Information Relay Services at 1-800-877-8339 (toll-free).

SUPPLEMENTARY INFORMATION: The Department will submit the proposed information collection to OMB for review, as required by the Paperwork Reduction Act of 1995 (44 U.S.C. Chapter 35, as amended).

The General Conditions of the Construction Contract; Public Housing Programs (HUD-5370) is required for construction contracts awarded by Public Housing Agencies (PHAs). The General Conditions provide PHAs, contractors and subcontractors, the requirements for performance and compliance for project construction under the conventional bid method and modernization. The General Condition clauses were implemented by 24 CFR 85.36.

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submissions of responses.

This Notice Also Lists the Following Information

Title of Proposal: General Conditions of the Construction Contract; Public Housing Programs.

OMB Control Number: 2577-0094.

Description of the Need for the Information and Proposed Use: The General Conditions provide PHAs, contractors and subcontractors, performance and compliance requirements for project construction under the conventional bid method and modernization. If the General Conditions were not used by PHAs in solicitations, they would be unable to enforce their contracts. The General Conditions include those clauses required by OMB's Common Rule on grantee procurement, implemented by HUD at 24 CFR 85.36, HUD program regulations on grantee procurement; those requirements set forth in Section 3 of the Housing and Urban Development Act of 1968, as amended (12 U.S.C 1701u, Section 3, for the employment, training, and contracting opportunities for low-income persons), implemented by HUD at 24 CFR 135.

Agency Form Numbers: HUD-5370.

Members of the Affected Public: PHAs, State and Local Governments; business or other for-profit.

Estimation including the Total Number of Hours Needed to Prepare the Information Collection for the Number of Respondents, Frequency of response, and hours of response: 2,694 responses (624 development and 2,070 modernization), one response per construction contract, one response per construction contract, hour per response, 2,694 total burden hours.

Status of the Proposed Information Collection: Extension.

Authority: Section 3506 of the Paperwork Reduction Act of 1995, 44 U.S.C. Chapter 35, as amended.

Dated: September 12, 2003.
Michael Liu,
Assistant Secretary for Public and Indian Housing.

[FR Doc. 03-23883 Filed 9-17-03; 8:45 am]

BILLING CODE 4210-33-P